ENVIRONMENTAL PROTECTION AGENCY

[FRL-9956-29-OW]

National Lakes Assessment 2012 Final Report

AGENCY: Environmental Protection Agency (EPA).

ACTION: Notice of availability.

SUMMARY: This notice announces the availability of the Environmental Protection Agency's (EPA) final report on the National Lakes Assessment 2012. The NLA describes the results of the nationwide probabilistic survey that was conducted in the summer of 2012 by EPA and its state, tribal, and federal partners. The NLA report includes information on how the survey was implemented, what the findings are on a national scale, and future actions and challenges. The NLA Web site also includes findings at the ecoregional scale and allows users to explore additional results using a new interactive dashboard.

FOR FURTHER INFORMATION CONTACT: Amina Pollard, Office of Wetlands, Oceans and Watersheds, Office of Water, Washington DC. Phone: 202-566-2360; email: pollard.amina@epa.gov.

SUPPLEMENTARY INFORMATION:

I. General Information

The National Lakes Assessment 2012: A Collaborative Survey of Lakes in the United States is the second report assessing the condition of the nation's lakes. The NLA is one of a series of National Aquatic Resource Surveys, a national-scale monitoring program designed to produce statistically-valid assessments that answer critical questions about the condition of waters in the United States. The key goals of the NLA report are to describe the ecological and recreational condition of the nation's lakes, how those conditions are changing, and the key stressors affecting those waters. Using a statistical survey design, 1,038 sites were selected at random to represent the condition of the larger population of lakes across the lower 48 states including natural lakes and manmade reservoirs.

The NLA finds that 40% of the nation's lakes have excessive levels of phosphorus. Compared to other measures, nutrient pollution is the most widespread stressor in the NLA and can contribute to algal blooms and affect recreational opportunities in lakes. Using a new biological measure, the NLA finds that 31% of lakes have degraded benthic macroinvertebrate communities. The report has undergone peer, state/tribal and EPA review.

A. How can I get copies of the NLA 2012 and other related information?

You may view and download the final report from EPA's Web site at http://www.epa.gov/national-aquatic-resource-surveys/nla.

Dated: December 2, 2016.
Joel Beauvais,
Deputy Assistant Administrator, Office of Water.

[FR Doc. 2016-29440 Filed 12-7-16; 8:45 am]

BILLING CODE 6560-50-P